NATIONAL SCIENCE FOUNDATION

Sunshine Act Meetings

The National Science Board's Committee on Oversight hereby gives notice of the scheduling of a teleconference for the transaction of National Science Board business as follows:

TIME AND DATE: Tuesday, July 27, 2021, from 2:00-3:00 p.m. EDT.

PLACE: This meeting will be held by teleconference through the National Science Foundation.

STATUS: Open.

MATTERS TO BE CONSIDERED: The agenda of the teleconference is: Chair's opening remarks; Committee review and discussion of draft Merit Review Digest, Committee of Visitors (COV) summaries, and potential topics for NSB's Overview; discussion of goals and metrics that could help NSF and NSB assess progress in Broader Impact areas; and prepare for presentation by Dr. Shirley Malcom, Director of AAAS's SEA Change program, and former NSB member.

CONTACT PERSON FOR MORE INFORMATION: Point of contact for this meeting is: Ann Bushmiller, abushmil@nsf.gov, 703/292-7000. To listen to this teleconference, members of the public must send an email to nationalsciencebrd@nsf.gov at least 24 hours prior to the teleconference. The National Science Board Office will send requesters a toll-free dial-in number. Meeting information and updates may be found at the National Science Board website at www.nsf.gov/nsb.

Authority: National Science Foundation Act, as amended (42 U.S.C. 1862n-5), and the Government in the Sunshine Act (5 U.S.C. 552b.

Chris Blair,
Executive Assistant to the National Science Board Office.

[FR Doc. 2021-15804 Filed 7-28-21; 4:15 pm]

BILLING CODE 7555-01-P